GENERAL SERVICES ADMINISTRATION

Federal Supply Service

Standard Tender of Service

AGENCY: Federal Supply Service, GSA

ACTION: Notice of final implementation of interim 2 percent insurance related subcharge.

SUMMARY: The General Services Administration (GSA) has adopted an interim 2 percent “insurance related surcharge” requested by the freight motor carrier industry, hereinafter referred to as transportation service provider (TSP). This surcharge allows a TSP to recover escalating insurance premiums resulting from changes in the economy compounded by events of September 11, 2001. Notice of this adoption was published for comment in the Federal Register on May 9, 2002 (67 FR 31307), and comments were due by June 10, 2002. GSA received one comment. The comment was from the Government Relations Committee of the National Motor Freight Traffic Association, Inc., and it supported implementation of the surcharge. The 2 percent interim surcharge therefore is implemented as published in the attachment to 67 FR 31307. The provisions of the attachment also may be accessed at http://www.kc.gsa.gov/fsstt/FRT/stos.htm under the “What's New” item posted to the Web site on May 9, 2002.

DATES: Effective Date: May 1, 2002; Expiration Date: October 31, 2002.

FOR FURTHER INFORMATION CONTACT: Mr. Raymond Price, Transportation Programs Branch, by phone at 703-305-7536, or be e-mail at raymond.price@gsa.gov.

Dated: September 10, 2002.
Tauna T. Delmonico,
Director, Travel and Transportation Management Division.

[FR Doc. 02-23552 Filed 9-16-02; 8:45 am]

BILLING CODE 6820-24-M